DEPARTMENT OF ENERGY

Federal Energy Regulatory Commission

[Docket No. CP08-87-000]

Florida Gas Transmission Company, LLC; Notice of Request Under Blanket Authorization

March 12, 2008.

Take notice that on March 6, 2008, Florida Gas Transmission Company, LLC (FGT), 5444 Westheimer Road, Houston, Texas 77056, filed in Docket No. CP08-87-000, a prior notice request pursuant to sections 157.205 and 157.212 of the Federal Energy Regulatory Commission's regulations under the Natural Gas Act for authorization to construct, own, and operate an interconnect with Kinder Morgan Louisiana Pipeline LLC (KMLP), located in Acadia Parish, Louisiana, to receive revaporized liquefied natural gas, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, FGT proposes the installation of a 12-inch tap and valve, approximately 50 feet of 16-inch diameter connecting pipe, and electronic flow measurement. FGT estimates the cost of construction to be $226,000. FGT states that all cost associated with such facilities will be reimbursed by KMLP. FGT asserts that FGT will own, maintain, and operate the over-pressure protection equipment that KMLP will install in the KMLP Meter Station.

Any questions regarding the application should be directed to Stephen Veatch, Senior Director of Certificates & Tariffs, Florida Gas Transmission Company, LLC, 5444 Westheimer Road, Houston, Texas 77056, call (713) 989-2024, fax (713) 989-1158, or e-mail stephen.veatch@SUG.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-6221 Filed 3-26-08; 8:45 am]

BILLING CODE 6717-01-P